DEPARTMENT OF AGRICULTURE

Forest Service

Siskiyou County Resource Advisory Committee

AGENCY: Forest Service, USDA.

ACTION: Notice of meeting.

SUMMARY: The Siskiyou County Resource Advisory Committee will meet in Yreka, California, February 24, 2003. The meeting will include routine business including outreach to the public, conflict of interest, and a presentation on USFS Fire Fuels Management activities.

DATES: The meeting will be held February 24, 2003 from 4 p.m. until 6:30 p.m.

ADDRESSES: The meeting will be held at the Yreka High School Library, Preece Way, Yreka, California.

FOR FURTHER INFORMATION CONTACT: Don Hall, RAC Coordinator, Klamath National Forest, (530) 841-4468 or electronically at donaldhall@fs.fed.us.

SUPPLEMENTARY INFORMATION: The meeting is open to the public. Public comment opportunity will be provided and individuals will have the opportunity to address the Committee at that time.

Dated: February 11, 2003.
Margaret J. Boland,
Designated Federal Official.

[FR Doc. 03-4025 Filed 2-19-03; 8:45 am]

BILLING CODE 3410-11-M